SURFACE TRANSPORTATION BOARD

30-Day Notice of Intent To Seek Extension of Approval: Rail Depreciation Studies

ACTION: Notice and request for comments.

AGENCY: Surface Transportation Board.

SUMMARY: As required by the Paperwork Reduction Act of 1995, 44 U.S.C. 3501-3521 (PRA), the Surface Transportation Board (STB or Board) gives notice of its intent to seek approval from the Office of Management and Budget (OMB) for an extension of the collection of Rail Depreciation Studies. This information collection is described in detail below. The Board previously published a notice about this collection in the Federal Register. 81 FR 26,304 (May 2, 2016). That notice allowed for a 60-day public review and comment period. No comments were received.

DATES: Comments on this information collection should be submitted by November 14, 2016.

ADDRESSES: Written comments should be identified as “Paperwork Reduction Act Comments, Surface Transportation Board: Rail Depreciation Studies.” These comments should be directed to the Office of Management and Budget, Office of Information and Regulatory Affairs, Attention: Chandana L. Achanta, Surface Transportation Board Desk Officer, by email at OIRA_SUBMISSION@OMB.EOP.GOV; by fax at (202) 395-6974; or by mail to Room 10235, 725 17th Street NW., Washington, DC 20503. Please also direct comments to Chris Oehrle, Surface Transportation Board, 395 E Street SW., Washington, DC 20423-0001, or to PRA@stb.gov.

FOR FURTHER INFORMATION CONTACT: For further information regarding this collection, contact Michael Higgins, Deputy Director, Office of Public Assistance, Governmental Affairs, and Compliance at (202) 245-0284 or at higginsm@stb.gov. [Assistance for the hearing impaired is available through the Federal Information Relay Service (FIRS) at 1-800-877-8339.]

SUPPLEMENTARY INFORMATION: Comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collection

Title: Rail Depreciation Studies.

OMB Control Number: 2140-0028.

STB Form Number: None.

Type of Review: Extension with change.

Respondents: Class 1 railroads.

Number of Respondents: Seven.

Frequency: On occasion. (Under 49 CFR part 1201, 4-1 to 4-4, the Board requires all Class 1 (large) carriers to submit rail depreciation studies no less than every three years for equipment property and every six years for road and track property. That means that for any given six-year period the Class 1 railroads have to submit no less than three depreciation reports or the equivalent of 0.5 depreciation reports per year.)

Total Burden Hours: 3,500 hours (500 hours × 7 Class 1 railroads).

Total Annual “Non-hour Burden” Cost: Approximately $262,500 per year. Board staff estimates that each study will cost between $50,000 and $100,000, which equals a cost of approximately $25,000-$50,000 per year. Using an average cost ($37,500 per year × 7 Class 1 railroads), the non-hour burden cost is estimated to be approximately $262,500 per year.

Needs and Uses: Under 49 CFR part 1201, 4-1 to 4-4, the Board is required to identify those classes of property for which rail carriers may include depreciation charges under operating expenses, and the Board must also prescribe a rate of depreciation that may be charged to those classes of property. Pursuant to the Board's authority under 49 U.S.C. 11145, Class 1 rail carriers are required to submit Rail Depreciation Studies to the Board. Information in these studies is not available from any other source. The Board uses the information in these studies to prescribe depreciation rates. These depreciation rate prescriptions state the period for which the depreciation rates therein are applicable. Class 1 railroads apply the prescribed depreciation rates to their investment base to determine monthly and annual depreciation expense. This expense is included in the railroads' operating expenses, which are reported in their R-1 reports (OMB Control Number 2140-0009). Operating expenses are used to develop operating costs for application in various proceedings before the Board, such as in rate reasonableness cases and in the determination of railroad revenue adequacy.

Under the PRA, a Federal agency conducting or sponsoring a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: October 6, 2016.
Brendetta S. Jones,
Clearance Clerk.

[FR Doc. 2016-24616 Filed 10-11-16; 8:45 am]

BILLING CODE 4915-01-P